DEPARTMENT OF HOMELAND SECURITY

U.S. Citizenship and Immigration Services

[OMB Control No.1615-0018]

Agency Information Collection Activities: Application for Permission To Reapply for Admission Into the United States After Deportation or Removal, Form I-212;. Extension of an Existing Information Collection; Comment Request

ACTION: 30-Day Notice.

The Department of Homeland Security, U.S. Citizenship and Immigration Services (USCIS) will be submitting the following information collection request to the Office of Management and Budget (OMB) for review and clearance in accordance with the Paperwork Reduction Act of 1995. An information collection notice was previously published in the Federal Register on May 1, 2012, at 77 FR 25722, allowing for a 60-day public comment period. USCIS received a comment for this information collection notice.

The purpose of this notice is to allow for an additional 30 days for public comments. Comments are encouraged and will be accepted until August 23, 2012. This process is conducted in accordance with 5 CFR 1320.10.

Written comments and/or suggestions regarding the item(s) contained in this notice, especially regarding the estimated public burden and associated response time, should be directed to the Department of Homeland Security (DHS), and to the Office of Management and Budget (OMB) USCIS Desk Officer. Comments may be submitted to: USCIS, Chief, Regulatory Coordination Division, Office of Policy and Strategy, Clearance Office, 20 Massachusetts Avenue, Washington, DC 20529. Comments may also be submitted to DHS via email at uscisfrcomment@dhs.gov, and OMB USCIS Desk Officer via facsimile at 202-395-5806 or via email at oira_submission@omb.eop.gov. When submitting comments by email, please make sure to add OMB Control Number 1615-0018 in the subject box. Comments may also be submitted via the Federal eRulemaking Portal Web site at http://www.Regulations.gov under e-Docket ID number USCIS-2008-0077.

Written comments and suggestions from the public and affected agencies should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of an existing information collection.

(2) Title of the Form/Collection: Application for Permission To Reapply for Admission Into the United States After Deportation or Removal.

(3) Agency form number, if any, and the applicable component of the Department of Homeland Security sponsoring the collection: Form I-212; U.S. Citizenship and Immigration Services (USCIS).

(4) Affected public who will be asked or required to respond, as well as a brief abstract: Primary: Individuals or households. USCIS uses the information provided on Form I-212 to adjudicate applications filed by aliens requesting consent to reapply for admission to the United States after deportation, removal or departure, as provided under section 212 of the Immigration and Nationality Act.

(5) An estimate of the total number of respondents and the amount of time estimated for an average respondent to respond: 1,877 responses at 2 hours per response.

(6) An estimate of the total public burden (in hours) associated with the collection: 3,754 annual burden hours.

If you need a copy of the information collection instrument, please visit the Web site at: http://www.regulations.gov.

We may also be contacted at USCIS, Regulatory Coordination Division, Office of Policy and Strategy, 20 Massachusetts Avenue NW., Washington, DC 20529; Telephone 202-272-1470.

Dated: July 17, 2012.
Laura Dawkins,
Chief, Regulatory Coordination Division, Office of Policy and Strategy, U.S. Citizenship and Immigration Services, Department of Homeland Security.

[FR Doc. 2012-17836 Filed 7-23-12; 8:45 am]

BILLING CODE 9111-97-P